DEPARTMENT OF TRANSPORTATION

National Highway Traffic Safety Administration

49 CFR Part 571

[Docket No. NHTSA-00-8248]

RIN No. 2127-AF36

Federal Motor Vehicle Safety Standards; Fuel System Integrity

AGENCY: National Highway Traffic Safety Administration (NHTSA), DOT.

ACTION: Extension of comment period.

SUMMARY: This document grants a request to extend the comment period on an agency proposal to amend the rear and side impact test procedures specified in the federal motor vehicle safety standard on fuel system integrity. The proposed amendment would replace the current test requiring the rear of the test vehicle to be impacted by a flat, rigid barrier at 48 kilometers per hour (30 miles per hour) with a test requiring only a portion of the rear of the test vehicle to be impacted by a lighter, deformable barrier at 80 km/h (50 mph). The proposal also would specify that the test procedure used in the standard on side impact protection be used for the standard on fuel system integrity. The agency is extending the comment period an additional 30 days.

DATES: Comments on the November 13, 2000 proposal, 65 FR 67693, Docket No. NHTSA-00-8248, must be received by the agency on or before the close of business on February 12, 2001.

ADDRESSES: You should mention the docket number of this document in your comments and submit your comments in writing to: Docket Management, Room PL-401, 400 Seventh Street, SW., Washington, DC 20590. Alternatively, you may submit your comments electronically via e-mail at http://dms.dot.gov.

You may call the Docket at 202-366-9324 and visit it from 10:00 a.m. to 5:00 p.m., Monday through Friday.

FOR FURTHER INFORMATION CONTACT: For non-legal issues, you may call Dr. William J. J. Liu, Office of Vehicle Safety Standards, (Telephone 202-366-2264) (FAX 202-366-4329).

For legal issues, you may call Mr. Dion Casey, NCC-20, Rulemaking Division, Office of Chief Counsel, (Telephone 202-366-2992) (FAX 202-366-3820).

You may send mail to both of these officials at National Highway Traffic Safety Administration, 400 Seventh Street, SW, Washington, DC 20590.

SUPPLEMENTARY INFORMATION: On November 13, 2000, NHTSA published a notice of proposed rulemaking (NPRM) proposing to amend the rear impact test in Standard No. 301, Fuel System Integrity. The current test procedure requires the entire rear of the vehicle to be impacted by a flat, rigid barrier at speeds up to 48 km/h (30 mph). Under the proposal, NHTSA would replace that full rear impact test procedure with an offset rear impact test procedure requiring only a portion of the rear of the vehicle to be impacted with a lighter, deformable barrier at 80 km/h (50 mph). The agency has tentatively concluded that the new, more stringent test procedure will save lives and prevent injuries.

In the NPRM, the agency also proposed to change Standard No. 301's procedure for side impact tests. Currently, the standard specifies a side impact test procedure that differs from the test procedure in our standard on side impact protection (Standard No. 214, Side Impact Protection). Under the proposal, NHTSA would specify that the test procedure in Standard No. 214 be used for Standard No. 301 as well. The agency has tentatively concluded that this change will provide a more realistic test, increase safety, and reduce testing costs.

The NPRM specified a comment closing date of January 12, 2001 (60 days after the date of publication). However, on December 8, 2000, the agency received a request for an extension of the comment closing date from the Alliance of Automobile Manufacturers (Alliance). The Alliance stated that it wishes to provide comments on the proposal, but will be unable to do so in a timely fashion due to the complexity of the issues involved and the traditional holiday shutdowns in the U.S., Europe, and Japan. Specifically, the Alliance requests additional time to allow its members to conduct testing and gather data so that the Alliance may respond more fully to the proposal.

The agency may grant a person's petition for an extension of a comment period if the petition shows good cause for the extension, and if the extension is consistent with the public interest. 49 CFR 553.19. The agency concludes that the petitioner has made that showing and that an extension is in the public interest. An extension would aid the Alliance and other interested parties in fully responding to the proposed changes to Standard No. 301. Accordingly, this notice extends the comment closing date to February 12, 2001.

Authority: 49 U.S.C. 322, 30111, 30115, 30117, and 30166; delegation of authority is at 49 CFR 1.50 and 49 CFR 501.8.

Issued on: December 12, 2000.
Stephen R. Kratzke,
Associate Administrator for Safety Performance Standards.

[FR Doc. 00-31976 Filed 12-14-00; 8:45 am]

BILLING CODE 4910-59-P